DEPARTMENT OF JUSTICE

[OMB Number 1121-0292]

Agency Information Collection Activities; Proposed Collection Comments Requested; Extension of a Currently Approved Collection: 2016-2018 Survey of Sexual Victimization (SSV)

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until February 6, 2017.

FOR FURTHER INFORMATION CONTACT: If you have additional comments especially on the estimated public burden or associated response time, suggestions, or need a copy of the proposed information collection instrument with instructions or additional information, please contact Ramona Rantala, Statistician, Bureau of Justice Statistics, 810 Seventh Street NW., Washington, DC 20531 (email: Ramona.Rantala@usdoj.gov; telephone: 202-307-6170).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

(1) Type of Information Collection: Extension of currently approved collection.

(2) The Title of the Form/Collection: Survey of Sexual Victimization (formerly the Survey of Sexual Violence).

(3) The agency form number, if any, and the applicable component of the Department sponsoring the collection: The form numbers for the questionnaires are SSV-1, SSV-2, SSV-3, SSV-4, SSV-5, SSV-6, SSV-IA, and SSV-IJ. The applicable component within the Department of Justice is the Bureau of Justice Statistics, in the Office of Justice Programs.

(4) Affected public who will be asked or required to respond, as well as a brief abstract: Primary: State, Local, or Tribal Government. Other: Federal Government and business (privately operated correctional institutions, both for-profit and not-for-profit). The data will be used to develop estimates for the incidence and prevalence of sexual assault within correctional facilities, as well as characteristics of substantiated incidents, as required under the Prison Rape Elimination Act of 2003 (Pub. L. 108-79).

(5) An estimate of the total number of respondents and the amount of time estimated for an average respondent to respond: An estimate of the total number of respondents is 1,538 adult and juvenile systems and facilities. (This estimate assumes a response rate of 100%.) Federal and state systems for adults and juveniles (102 respondents) will take an estimated 60 minutes to complete the summary form; local and privately operated facilities (1,426 respondents) will take an estimated 30 minutes to complete the summary form; and each incident form (we estimate about 2,000 incident forms will be completed, one for each incident that was substantiated) will take about 30 minutes. The annual burden estimates are based on data from the prior administration of the SSV.

(6) An estimate of the total public burden (in hours) associated with the collection: The annual total burden hours associated with this collection is estimated to be 1,815.

If additional information is required contact: Jerri Murray, Department Clearance Officer, United States Department of Justice, Justice Management Division, Policy and Planning Staff, Two Constitution Square, 145 N Street NE., 3E.405B, Washington, DC 20530.

Dated: December 1, 2016.
Jerri Murray,
Department Clearance Officer for PRA, U.S. Department of Justice.

[FR Doc. 2016-29166 Filed 12-5-16; 8:45 am]

BILLING CODE 4410-18-P